SOCIAL SECURITY ADMINISTRATION

20 CFR Parts 404, 405, and 416

[Docket No. SSA-2007-0053]

Compassionate Allowances for Schizophrenia; Office of the Commissioner, Hearing

AGENCY: Social Security Administration (SSA).

ACTION: Announcement of public hearing.

SUMMARY: We are considering ways to quickly identify diseases and other serious medical conditions that obviously meet the definition of disability under the Social Security Act (Act) and can be identified with minimal objective medical information. We are calling this method “Compassionate Allowances.” In December 2007, April 2008, November 2008, and July 2009, we held Compassionate Allowance public hearings. These hearings concerned rare diseases, cancers, traumatic brain injury and stroke, early-onset alzheimer's and related dementias, respectively. This hearing is the fifth in the series. The purpose of this hearing is to obtain your views about the advisability and possible methods of identifying and implementing compassionate allowances for young adults with Schizophrenia. We plan to address other medical conditions at subsequent hearings.

DATES: This hearing will be held on November 18, 2009, between 8:30 a.m. and 5 p.m., Pacific Standard Time (PST), in San Francisco, CA. The hearing will be held at the Parc 55 Hotel in the Cyril Magnin Room. The hotel's address is 55 Cyril Magnin Street, San Francisco, CA 94102. While the public is welcome to attend the hearing, only invited witnesses will present testimony. You may also watch the proceedings live via Webcast beginning at 9 a.m., Pacific Standard Time (PST). You may access the Webcast line for the hearing on the Social Security Administration Web site at http://www.socialsecurity.gov/compassionate allowances/hearings.htm.

ADDRESSES: You may submit written comments about the compassionate allowances initiative with respect to young adults with Schizophrenia, as well as topics covered at the hearing by (1) e-mail addressed to Compassionate.Allowances@ssa.gov; or (2) mail to Nancy Schoenberg, Acting Director, Office of Compassionate Allowances and Disability Outreach, ODP, ORDP, Social Security Administration, 4671 Annex Building, 6401 Security Boulevard, Baltimore, MD 21235-6401. We welcome your comments, but we may not respond directly to comments sent in response to this notice of the hearing.

FOR FURTHER INFORMATION CONTACT: Compassionate.Allowances@ssa.gov. You may also mail inquiries about this meeting to Nancy Schoenberg, Acting Director, Office of Compassionate Allowances and Disability Outreach, ODP, ORDP, Social Security Administration, 4671 Annex, 6401 Security Boulevard, Baltimore, MD 21235-6401. For information on eligibility or filing for benefits, call our national toll-free number 1-800-772-1213 or TTY 1-800-325-0778, or visit Social Security online, at http://www.socialsecurity.gov.

SUPPLEMENTARY INFORMATION:

Background

Under titles II and XVI of the Act, we pay benefits to individuals who meet our rules for entitlement and have medically determinable physical or mental impairments that are severe enough to meet the definition of disability in the Act. The rules for determining disability can be very complicated, but some individuals have such serious medical conditions that their conditions obviously meet our disability standards. To better address the needs of these individuals, we are implementing the Compassionate Allowance initiative to quickly identify diseases and other medical conditions that invariably qualify under the Listing of Impairments based on minimal objective medical information.

Will We Respond to Your Comments?

We will carefully consider your comments, although we will not respond directly to comments sent in response to this notice or the hearing.

Additional Hearings

We have held four hearings since December 2007. The hearings were on rare diseases, cancers, and traumatic brain injury (TBI) and stroke, early-onset alzheimer's and related dementias. You may access the transcripts of the hearings at http://www.socialsecurity.gov/compassionateallowances. We plan to hold additional hearings on other conditions and will announce those hearings later with notices in the Federal Register.

(Catalog of Federal Domestic Assistance Program Nos. 96.001, Social Security—Disability Insurance; 96.006, Supplemental Security Income. (72 FR at 62608).

Dated: October 26, 2009.
Michael J. Astrue,
Commissioner of Social Security.

[FR Doc. E9-26194 Filed 10-29-09; 8:45 am]

BILLING CODE 4191-02-P